DEPARTMENT OF HOMELAND SECURITY

Coast Guard

33 CFR Part 117

[Docket No. USCG-2014-0584]

Drawbridge Operation Regulation; Hutchinson River, Bronx, NY

AGENCY: Coast Guard, DHS.

ACTION: Notice of deviation from drawbridge regulation.

SUMMARY: The Coast Guard has issued a temporary deviation from the operating schedule that governs the Amtrak Pelham Bay Bridge across the Hutchinson River, mile 0.5, at Bronx, New York. The deviation is necessary for installation of new bearing bushings at the bridge. This temporary deviation allows the bridge to remain in the closed position for two six-day closure periods to perform scheduled maintenance.

DATES: This deviation is effective from 10 p.m. on October 10, 2014 through 7 a.m. on October 30, 2014.

ADDRESSES: The docket for this deviation, [USCG-2014-0584] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION:

The Amtrak Pelham Bay Bridge has a vertical clearance of 8 feet at mean high water and 15 feet at mean low water. The existing drawbridge operating regulations are found at 33 CFR 117.793.

The Hutchinson River has predominantly commercial vessel traffic of various sizes.

The owner of the bridge, National Railroad Passenger Corporation (Amtrak), requested two six-day bridge closures to facilitate installation of new bearing bushings at the bridge.

Under this temporary deviation, the Amtrak Pelham Bay Bridge may remain in the closed position from 10 p.m. on October 10, 2014 through 7 a.m. on October 16, 2014 and from 10 p.m. on October 17, 2014 through 7 a.m. on October 23, 2014. In the event of inclement weather a rain date from 10 p.m. on October 24, 2014 through 7 a.m. on October 30, 2014 will be used to complete the scheduled bridge maintenance.

The Coast Guard coordinated this bridge closure with the existing marine facilities that normally transit the Amtrak Pelham Bay Bridge and no objections were received.

Vessels that can pass under the bridge in the closed position may do so at all times. There are no alternate routes. The bridge can't be opened in the event of an emergency during this bridge maintenance.

In accordance with 33 CFR 117.35(e), the drawbridge must return to its regular operating schedule immediately at the end of the effective period of this temporary deviation. This deviation from the operating regulations is authorized under 33 CFR 117.35.

Dated: July 17, 2014.
C.J. Bisignano,
Supervisory Bridge Management Specialist, First Coast Guard District.

[FR Doc. 2014-17849 Filed 7-28-14; 8:45 am]

BILLING CODE 9110-04-P